FEDERAL COMMUNICATIONS COMMISSION

47 CFR Parts 2, 25, 74, 78, 90, 97, and 101

[ET Docket No. 23-120; FCC 23-26; FR ID 181076]

Implementation of the Final Acts of the 2015 World Radio Communication Conference; Correction

AGENCY: Federal Communications Commission.

ACTION: Proposed rule; correction.

SUMMARY: This document corrects the preamble to a proposed rule published in the Federal Register of September 29, 2023, concerning implementation of certain allocation decisions from the Final Acts of the World Radiocommunication Conference 2015. The document provided an incorrect comment date and reply comment date.

FOR FURTHER INFORMATION CONTACT: For additional information, contact Jamie Coleman of the Office of Engineering and Technology, Policy and Rules Division, Spectrum Policy Branch, at (202) 418-2705 or Jamie.Coleman@fcc.gov.

SUPPLEMENTARY INFORMATION:

Correction

In the Federal Register of September 29, 2023, in FR Doc. 2023-19383, on page 67160, in the third column, correct the DATES caption to read:

DATES: Interested parties may file comments on or before November 28, 2023; and reply comments on or before December 28, 2023. All filings must refer to ET Docket No. 23-120.

This is a summary of the Commission's Notice of Proposed Rulemaking (NPRM) in ET Docket No. 23-120; FCC 23-26, adopted on April 18, 2023, and released on April 21, 2023. The full text of this document is available for public inspection online at https://docs.fcc.gov/public/attachments/FCC-23-26A1.pdf.

Marlene Dortch,
Secretary.

[FR Doc. 2023-23673 Filed 10-26-23; 8:45 am]

BILLING CODE 6712-01-P